DEPARTMENT OF TRANSPORTATION

National Highway Traffic Safety Administration

[Docket No. DOT-NHTSA-2018-0093]

Paperwork Reduction Act 60-Day Notice; Request for Comments

AGENCY: National Highway Traffic Safety Administration (NHTSA), Department of Transportation (DOT).

ACTION: Notice and request for comments on the extension of a previously approved collection of information.

SUMMARY: The Department of Transportation (DOT) invites public comments about our intention to request approval from the Office of Management and Budget (OMB) to renew an information collection. Before a Federal agency can collect certain information from the public, it must receive approval from the Office of Management and Budget (OMB). Under procedures established by the Paperwork Reduction Act of 1995, before seeking OMB approval, Federal agencies must solicit public comment on proposed collections of information, including extension and reinstatement of previously approved collections.

DATES: Comments must be received on or before April 2, 2019.

ADDRESSES: You may submit comments [identified by Docket No. DOT-NHTSA-2018-0093] through one of the following methods:

• Federal eRulemaking Portal: http://www.regulations.gov. Follow the online instructions for submitting comments.

• Fax: 1 (202) 493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Complete copies of each request for collection of information may be obtained at no charge from Frank Subalusky, NHTSA, 1200 New Jersey Avenue, SE Room W55-333, NSA-200, Washington, DC 20590.

Mr. Subalusky's telephone number is (202) 366-4800. Please identify the relevant collection of information by referring to its OMB Control Number.

SUPPLEMENTARY INFORMATION:

Title: 23 CFR part 1327 Procedures for Participating In and Receiving Information from the National Driver Register.

OMB Control Number: 2127-00010.

Type of Review: Extension of a previously approved information collection.

Abstract: The purpose of the NDR is to assist States and other authorized users in obtaining information about problem drivers. State motor vehicle agencies submit and use the information for driver licensing purposes. Other users obtain the information for transportation safety purposes.

Affected Public: State and DC.

Estimated Number of Respondents: The number of respondents is 51— the 50 States and the District of Columbia.

Estimated Annual Burden: 1,742 hours.

Estimated Cost: There are no annual costs.

Frequency: On a daily basis.

Form Numbers: This collection of information uses no standard form.

Public Comments Invited: You are invited to comment on any aspect of this information collection, including whether (i) the proposed collection of information is necessary for the Department's performance; (ii) the information will have practical utility; (iii) the accuracy of the estimated burden of the proposed information collection; (iv) ways to enhance the quality, utility and clarity of the information to be collected; and (v) ways to minimize the burden of the collection of information on respondents including the use of automated collection techniques or other forms of information technology. The agency will summarize and/or include your comments in the request for OMB's clearance of this information collection.

Authority: The Paperwork Reduction Act of 1995; 44 U.S.C. Chapter 35, as amended; and 49 CFR 1:48.

Cem Hatipoglu,
Acting Associate Administrator for the National Center for Statistics and Analysis.

[FR Doc. 2019-00742 Filed 1-31-19; 8:45 am]

BILLING CODE 4910-59-P